DEPARTMENT OF HEALTH AND HUMAN SERVICES

National Institutes of Health

Division of Loan Repayment; Proposed Collection; Comment Request; National Institutes of Health Loan Repayment Programs

SUMMARY: In compliance with the requirement of Section 3506(c)(2)(A) of the Paperwork Reduction Act of 1995 for opportunity for public comment on proposed data collection projects, the Division of Loan Repayment, National Institutes of Health (NIH), will publish periodic summaries of proposed projects to be submitted to the Office of Management and Budget (OMB) for review and approval.

Proposed Collection: Title: National Institutes of Health Loan Repayment Programs. Type of Information Collection Request: Revision of currently approved collection (OMB No. 0925-0361, expiration date 6/30/08). Form Numbers: NIH 2674-1, NIH 2674-2, NIH 2674-3, NIH 2674-4, NIH 2674-5, NIH 2674-6, NIH 2674-7, NIH 2674-8, NIH 2674-9, NIH 2674-10, NIH 2674-11, NIH 2674-12, NIH 2674-13, NIH 2674-14, NIH 2674-15, NIH 2674-16, NIH 2674-17, NIH 2674-18, and NIH 2674-19. Need and Use of Information Collection: The NIH makes available financial assistance, in the form of educational loan repayment, to M.D., Ph.D., Pharm.D., D.D.S., D.M.D., D.P.M., D.C., and N.D. degree holders, or the equivalent, who perform biomedical or behavioral research in NIH intramural laboratories or as extramural grantees for a minimum of 2 years (3 years for the General Research Loan Repayment Program (LRP)) in research areas supporting the mission and priorities of the NIH.

The AIDS Research Loan Repayment Program (AIDS-LRP) is authorized by Section 487A of the Public Health Service Act (42 U.S.C. 288-1); the Clinical Research Loan Repayment Program for Individuals from Disadvantaged Backgrounds (CR-LRP) is authorized by Section 487E (42 U.S.C. 288-5); the General Research Loan Repayment Program (GR-LRP) is authorized by Section 487C (42 U.S.C. 288-3); the Loan Repayment Program Regarding Clinical Researchers (LRP-CR) is authorized by Section 487F (42 U.S.C. 288-5a); the Pediatric Research Loan Repayment Program (PR-LRP) is authorized by Section 487F (42 U.S.C. 288-6); the Extramural Clinical Research LRP for Individuals from Disadvantaged Backgrounds (ECR-LRP) is authorized by an amendment to Section 487E (42 U.S.C. 288-5); the Contraception and Infertility Research LRP (CIR-LRP) is authorized by Section 487B (42 U.S.C. 288-2); and the Health Disparities Research Loan Repayment Program (HD-LRP) is authorized by Section 485G (42 U.S.C. 287c-33).

The Loan Repayment Programs provide for the repayment of up to $35,000 a year of the principal and interest of the educational loan debt of qualified health professionals who agree to conduct qualifying research for each year of obligated service. The information proposed for collection will be used to determine an applicant's eligibility for participation in the program. Frequency of Response: Initial application and annual or biennial renewal application. Affected Public: Applicants, financial institutions, research institutions, recommenders. Type of Respondents: Physicians, other scientific or medical personnel, and organizational officials. The annual reporting burden is as follows:

Type of respondents | Number of respondents | Estimated number of responses per respondent | Average burden hours per response | Annual burden hours requested
Intramural LRPs
Initial Applicants | 30 | 1 | 10.11 | 303.30
Advisors/Supervisors | 30 | 1 | .5 | 15.00
Recommenders | 90 | 1 | .33 | 29.70
Financial Institutions | 10 | 1 | 1.25 | 12.50
Subtotal | 160 |  |  | 360.50
Extramural LRPs
Initial Applicants | 1,900 | 1 | 10.35 | 19,665.00
Advisors/Supervisors | 1,750 | 1 | .5 | 875.00
Recommenders | 5,700 | 1 | .33 | 1881.00
Financial Institutions | 300 | 1 | 1.25 | 375.00
Subtotal | 9,650 |  |  | 22,796.00
Intramural LRPs
Renewal Applicants | 60 | 1 | 7.42 | 445.20
Advisors/Supervisors | 60 | 1 | 1.33 | 79.80
Subtotal | 120 |  |  | 525.00
Extramural LRPs
Renewal Applicants | 1,225 | 1 | 8.58 | 10,510.50
Advisors/Supervisors | 925 | 1 | 1.00 | 925.00
Recommenders | 3,675 | 1 | .33 | 1,212.75
Subtotal | 5,825 |  |  | 12,648.25
Total | 15,755 |  |  | 36,329.75

The annualized cost to respondents is estimated at $1,298,341. There are no capital costs, operating costs, or maintenance costs to report.

Request for Comments: Written comments and/or suggestions from the public and affected agencies are invited on one or more of the following points: (1) Whether the proposed collection of information is necessary for the proper performance of the function of the agency, including whether the information will have practical utility; (2) the accuracy of the agency's estimate of the burden of the proposed collection of information, including the validity of the methodology and assumptions used; (3) ways to enhance the quality, utility, and clarity of the information to be collected; and (4) ways to minimize the burden of the collection of information on those who are to respond, including the use of appropriate automated, electronic, mechanical, or other technological collection techniques or other forms of information technology.

FOR FURTHER INFORMATION CONTACT: To request more information on the proposed project or to obtain a copy of the data collection plans and instruments, contact: Sherry Mills, M.D., M.P.H., Acting Director, Division of Loan Repayment, National Institutes of Health, 6011 Executive Blvd, Room 206 (MSC 7650), Bethesda, Maryland 20892-7650. Dr. Mills may be contacted via e-mail at Millsshe@od.nih.gov or by calling 301-402-2642 (not a toll-free number).

Comments Due Date: Comments regarding this information collection are best assured of having their full effect if received within 60 days from the date of this publication.

Dated: December 17, 2007.
Raynard S. Kington,
Deputy Director, National Institutes of Health.

[FR Doc. E7-24899 Filed 12-21-07; 8:45 am]

BILLING CODE 4140-01-P